DEPARTMENT OF COMMERCE

International Trade Administration

Proposed Information Collection; Comment Request; Questionnaire on Business-Related Visa Processes

AGENCY: International Trade Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before January 10, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Christopher Clement, 202-482-4750, christopher.clement@trade.gov, Fax: 202-482-3643.

SUPPLEMENTARY INFORMATION:

I. Abstract

The U.S. Department of Commerce (DOC) fosters, serves, and promotes the Nation's economic development. Through participation with other U.S. Government agencies, DOC creates national policies to enhance opportunities for U.S. workers and employers in the global economy. Countries that support the free flow of products, services, capital, and people create a positive business environment for their domestic firms. DOC has been informed by industry associations representing U.S. business and trade interests that their member companies have experienced problems with the visa process as it pertains to bringing foreign business travelers into the country. Although official data does not exist, anecdotal evidence suggests common difficulties for U.S. industry due to visa delays and denials, with commensurate economic loss to U.S. firms. Recognizing that national security concerns must always remain paramount in any discussion relating to business visas and in response to these industry concerns, the Secretary of Commerce has identified the need to measure how current U.S. business visa policy affects American companies active in the global economy. The facilitation of business travel is a priority of Secretary's and very important to meeting President Obama's National Export Initiative goal of doubling U.S. exports in the next five years.

The DOC will request that U.S. industry and trade associations use the questionnaire to report instances of U.S. business visa delay or denial. The information derived from completed questionnaires is critical to enabling DOC to ascertain the economic impact, if any, of current U.S. business-related visa policy.

DOC staff regularly receive unsolicited feedback from U.S industry, U.S. trade associations, state/regional/local economic development officials, and foreign investors about challenges that foreign business travelers have encountered while trying to obtain a U.S. business visa. Though this qualitative information is useful in understanding certain issues pertaining to current U.S. business visa policy, the quantitative information that the questionnaire will gather is much more important in providing a more comprehensive understanding of the potential economic impact of business visa delays and denials.

II. Method of Collection

Information will be collected electronically.

III. Data

OMB Control Number: 0625-XXXX.

Form Number(s): None.

Type of Review: Regular submission (new information collection).

Affected Public: Business or other for-profit organizations.

Estimated Number of Respondents: 500.

Estimated Time Per Response: 30 minutes.

Estimated Total Annual Burden Hours: 250.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: November 5, 2010.
Gwellnar Banks,
Management Analyst, Office of the Chief Information Officer.

[FR Doc. 2010-28339 Filed 11-9-10; 8:45 am]

BILLING CODE 3510-FP-P